DEPARTMENT OF AGRICULTURE

Foreign Agricultural Service

Trade Adjustment Assistance for Farmers

AGENCY: Foreign Agricultural Service, USDA.

ACTION: Notice.

The Foreign Agricultural Service announced on October 8, 2004, the re-certification of the trade adjustment assistance (TAA) petition for the United Fishermen of Alaska that was initially certified on November 6, 2003. As part of the fiscal year 2005 TAA program for Alaska Salmon fishermen, the Marine Advisory Program (MAP) of the University of Alaska Fairbanks will be offering salmon fishermen who apply for TAA benefits a variety of technical courses at no cost. Applicants in fiscal year 2005 who did not receive technical assistance under the fiscal year 2004 TAA program must obtain the technical assistance from MAP by June 15, 2005, in order to be eligible for financial payments.

For General Information About TAA, Contact: Jean-Louis Pajot, Coordinator, Trade Adjustment Assistance for Farmers, FAS, USDA, (202) 720-2916, e-mail: trade.adjustment@fas.usda.gov.

Dated: October 27, 2004.
Kenneth Roberts,
Administrator, Acting Foreign Agricultural Service.

[FR Doc. 04-24997 Filed 11-9-04; 8:45 am]

BILLING CODE 3410-10-P